SMALL BUSINESS ADMINISTRATION

[Declaration of Disaster #3578]

State of Iowa (Amendment #3)

In accordance with a notice received from the Department of Homeland Security—Federal Emergency Management Agency, effective June 24, 2004, the above numbered declaration is hereby amended to establish the incident period for this disaster as beginning on May 19, 2004, and continuing through June 24, 2004.

All other information remains the same, i.e., the deadline for filing applications for physical damage is July 26, 2004, and for economic injury the deadline is February 25, 2005.

(Catalog of Federal Domestic Assistance Program Nos. 59002 and 59008).
Dated: June 30, 2004.
Herbert L. Mitchell,
Associate Administrator for Disaster Assistance.

[FR Doc. 04-15478 Filed 7-7-04; 8:45 am]

BILLING CODE 8025-01-P